DEPARTMENT OF TRANSPORTATION

Federal Aviation Administration

14 CFR Part 39

[Docket No. FAA-2011-0653; Directorate Identifier 2010-NM-249-AD; Amendment 39-16745; AD 2011-14-10]

RIN 2120-AA64

Airworthiness Directives; Airbus Model A330-342 Airplanes

AGENCY: Federal Aviation Administration (FAA), Department of Transportation (DOT).

ACTION: Final rule; request for comments.

SUMMARY: We are adopting a new airworthiness directive (AD) for the products listed above. This AD results from mandatory continuing airworthiness information (MCAI) originated by an aviation authority of another country to identify and correct an unsafe condition on an aviation product. The MCAI describes the unsafe condition as:

* * * * *

Following a query from an operator, investigations revealed that some MSN [manufacturer serial number], for which Airbus modification 40391 was indicated as fully embodied inside the Aircraft Inspection Report (AIR), did not have Modification Proposal (MP-S10437) which is part of this modification embodied in production.

As a result, ALI [Airworthiness Limitation Item] task 533105-01-02 has not been performed on the MSN listed in the applicability section of this AD, which constitutes an unsafe condition.

* * * * *

The unsafe condition is fatigue cracking of the internal structure of the fuselage, which could adversely affect the structural integrity of the airplane. This AD requires actions that are intended to address the unsafe condition described in the MCAI.

DATES: This AD becomes effective August 1, 2011.

The Director of the Federal Register approved the incorporation by reference of a certain publication listed in the AD as of August 1, 2011.

We must receive comments on this AD by August 29, 2011.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is in the ADDRESSES section. Comments will be available in the AD docket shortly after receipt.

FOR FURTHER INFORMATION CONTACT: Vladimir Ulyanov, Aerospace Engineer, International Branch, ANM-116, Transport Airplane Directorate, FAA, 1601 Lind Avenue, SW., Renton, Washington 98057-3356; telephone (425) 227-1138; fax (425) 227-1149.

SUPPLEMENTARY INFORMATION:

Discussion

The European Aviation Safety Agency (EASA), which is the Technical Agent for the Member States of the European Community, has issued EASA Airworthiness Directive 2010-0173, dated August 17, 2010 (referred to after this as “the MCAI”), to correct an unsafe condition for the specified products. The MCAI states:

Airworthiness Limitation Item (ALI) task 533105-01-02 is applicable to aeroplanes on which Airbus modification 40391 has not been embodied in production. The requirements associated to this task are applicable to aeroplanes on which Modification Proposal (MP-S10437) has not been embodied.

Following a query from an operator, investigations revealed that some MSN [manufacturer serial numbers], for which Airbus modification 40391 was indicated as fully embodied inside the Aircraft Inspection Report (AIR), did not have Modification Proposal (MP-S10437) which is part of this modification embodied in production.

As a result, ALI task 533105-01-02 has not been performed on the MSN listed in the applicability section of this AD, which constitutes an unsafe condition.

For the reasons described above, this AD requires repetitive special detailed inspections [for fatigue cracking of the internal structure of the fuselage] corresponding to ALI task 533105-01-02 and the accomplishment of the associated corrective actions.

The unsafe condition is fatigue cracking of the internal structure of the fuselage, which could adversely affect the structural integrity of the airplane. The special detailed inspection is defined as an ultrasonic inspection in this AD. The corrective action is repairing any cracks in accordance with a method approved by the FAA or EASA (or its delegated agent). You may obtain further information by examining the MCAI in the AD docket.

Relevant Service Information

Airbus has issued Mandatory Service Bulletin A330-53-3185, including Appendices 01 and 02, dated May 20, 2010. The actions described in this service information are intended to correct the unsafe condition identified in the MCAI.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

There are no products of this type currently registered in the United States. However, this rule is necessary to ensure that the described unsafe condition is addressed if any of these products are placed on the U.S. Register in the future.

Differences Between the AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a NOTE within the AD.

FAA's Determination of the Effective Date

Since there are currently no domestic operators of this product, notice and opportunity for public comment before issuing this AD are unnecessary.

Comments Invited

This AD is a final rule that involves requirements affecting flight safety, and we did not precede it by notice and opportunity for public comment. We invite you to send any written relevant data, views, or arguments about this AD. Send your comments to an address listed under the ADDRESSES section. Include “Docket No. FAA-2011-0653; Directorate Identifier 2010-NM-249-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2011-14-10 Airbus: Amendment 39-16745. Docket No. FAA-2011-0653; Directorate Identifier 2010-NM-249-AD.

Effective Date

(a) This airworthiness directive (AD) becomes effective August 1, 2011.

Affected ADs

(b) None.

Applicability

(c) This AD applies to Airbus Model A330-342 airplanes, manufacturer serial numbers (MSN) 0012 and 0017; certificated in any category.

Subject

(d) Air Transport Association (ATA) of America Code 53: Fuselage.

Reason

(e) The mandatory continued airworthiness information (MCAI) states:

* * * * *

Following a query from an operator, investigations revealed that some MSN, for which Airbus modification 40391 was indicated as fully embodied inside the Aircraft Inspection Report (AIR), did not have Modification Proposal (MP-S10437) which is part of this modification embodied in production.

As a result, ALI [Airworthiness Limitation Item] task 533105-01-02 has not been performed on the MSN listed in the applicability section of this AD, which constitutes an unsafe condition.

* * * * *

The unsafe condition is fatigue cracking of the internal structure of the fuselage, which could adversely affect the structural integrity of the airplane.

Compliance

(f) You are responsible for having the actions required by this AD performed within the compliance times specified, unless the actions have already been done.

Actions

(g) Within the applicable time specified in table 1 of this AD, or within 90 days after the effective date of this AD, whichever occurs later: Do an ultrasonic inspection for cracks on the left hand side and right hand side of fuselage frame 39.1 at the fastener hole area just above stringer 28, in accordance with the Accomplishment Instructions of Airbus Mandatory Service Bulletin A330-53-3185, dated May 20, 2010. If any crack is found during any inspection required by this AD, before further flight repair using a method approved by the Manager, International Branch, ANM-116, Transport Airplane Directorate, FAA; or the European Aviation Safety Agency (EASA) (or its delegated agent).

Table 1—Compliance Times
MSN— | Initial compliance time—
0012 | Before the accumulation of 16,200 total flight cycles, or 38,900 total flight hours, whichever occurs first.
0017 | Before the accumulation of 16,200 total flight cycles, or within 38,000 total flight hours, whichever occurs first.

(h) If no crack is found during the inspection required by paragraph (g) of this AD, repeat the inspection in paragraph (g) of this AD thereafter at intervals not to exceed 7,400 flight cycles or 22,300 flight hours, whichever occurs first.

FAA AD Differences

Note 1: This AD differs from the MCAI and/or service information as follows: No differences.

Other FAA AD Provisions

(i) The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue, SW., Renton, Washington 98057-3356; telephone (425) 227-1138; fax (425) 227-1149. Information may be e-mailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(j) Refer to MCAI European Aviation Safety Agency Airworthiness Directive 2010-0173, dated August 17, 2010; and Airbus Mandatory Service Bulletin A330-53-3185, dated May 20, 2010; for related information.

Material Incorporated by Reference

(k) You must use Airbus Mandatory Service Bulletin A330-53-3185, excluding Appendix 01 and including Appendix 02, all dated May 20, 2010, to do the actions required by this AD, unless the AD specifies otherwise.

(1) The Director of the Federal Register approved the incorporation by reference of this service information under 5 U.S.C. 552(a) and 1 CFR part 51.

(2) For service information identified in this AD, contact Airbus SAS—Airworthiness Office—EAL, 1 Rond Point Maurice Bellonte, 31707 Blagnac Cedex, France; telephone +33 5 61 93 36 96; fax +33 5 61 93 45 80; e-mail airworthiness.A330-A340@airbus.com; Internet http://www.airbus.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on July 1, 2011.
Jeffrey E. Duven,
Acting Manager, Transport Airplane Directorate, Aircraft Certification Service.

[FR Doc. 2011-17403 Filed 7-14-11; 8:45 am]

BILLING CODE 4910-13-P